NUCLEAR REGULATORY COMMISSION

[Docket No. NRC-2013-0250]

CSMI, LLC; Request for Action

AGENCY: Nuclear Regulatory Commission.

ACTION: Request for action; receipt.

SUMMARY: The U.S. Nuclear Regulatory Commission (NRC) is giving notice that by petition dated August 10, 2013, George Walther-Meade (the petitioner) has requested that the NRC take action with regard to CSMI. The petitioner's requests are included in the SUPPLEMENTARY INFORMATION section of this document.

ADDRESSES: Please refer to Docket ID NRC-2013-0250 when contacting the NRC about the availability of information regarding this document. You may access publicly available information related to this action by the following methods:

• Federal Rulemaking Web site: Go to http://www.regulations.gov and search for Docket ID NRC-2013-0250. Address questions about NRC dockets to Carol Gallagher; telephone: 301-287-3422; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to PDR.Resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

SUPPLEMENTARY INFORMATION: On August 10, 2013 (ADAMS Accession No. ML13226A020), the petitioner requested that the NRC take action with regard to CSMI. The petitioner requested immediate enforcement action by issuing an order to revoke CSMI's License No. 20-35022-01.

As the basis for this request, the petitioner states that the Licensee has committed willful violations involving falsification of information that are of particular concern because the NRC's regulatory program is based on licensees acting with integrity and communicating with candor.

The request is being treated pursuant to section 2.206 of Title 10 of the Code of Federal Regulations (10 CFR) of the Commission's regulations. The request has been referred to the Director of the Office of Federal and State Materials and Environmental Management Programs. As provided by 10 CFR 2.206, appropriate action will be taken on this petition within a reasonable time. The petitioner met with the Petition Review Board (PRB) on September 10, 2013, to discuss the petition; the transcript of that meeting is an additional supplement to the petition (ADAMS Accession No. ML13263A388). The results of that discussion were considered in the board's determination regarding the petitioner's request for immediate action and in establishing the schedule for the review of the petition. By letter dated November 4, 2013, the Director denied petitioner's request for immediate action to revoke CSMI's License No. 20-35022-01.

Dated at Rockville, Maryland, this 4th day of November, 2013.
For the Nuclear Regulatory Commission.
Brian E. Holian,
Acting Director, Office of Federal and State Materials, and Environmental Management Programs.

[FR Doc. 2013-27542 Filed 11-15-13; 8:45 am]

BILLING CODE 7590-01-P